DEPARTMENT OF ENERGY

Federal Energy Regulatory Commission

[Docket Nos. CP17-66-000; CP17-67-000]

Venture Global Plaquemines LNG, LLC and Venture Global Gator Express, LLC; Notice of Availability of the Draft Environmental Impact Statement for the Proposed Plaquemines LNG and Gator Express Pipeline Project

The staff of the Federal Energy Regulatory Commission (FERC or Commission) has prepared a draft environmental impact statement (EIS) for the Plaquemines LNG and Gator Express Pipeline Project, proposed by Venture Global Plaquemines LNG, LLC and Venture Global Gator Express, LLC (collectively called Venture Global) in the above-referenced dockets. Venture Global requests authorization to construct and operate a new LNG export terminal and associated facilities along the west bank of the Mississippi River in Plaquemines Parish, Louisiana (LNG Terminal) and to construct and operate two new 42-inch-diameter natural gas pipeline laterals that would connect to the LNG Terminal. The new liquefaction facilities would have a design production capacity of 20 million metric tons of liquefied natural gas (LNG) per annum.

The draft EIS assesses the potential environmental effects of the construction and operation of the Plaquemines LNG and Gator Express Pipeline Project in accordance with the requirements of the National Environmental Policy Act (NEPA). The FERC staff concludes that approval of the proposed project, with the mitigation measures recommended in the draft EIS, would have some adverse environmental impacts. These impacts would be reduced to less-than-significant levels with the implementation of Venture Global's proposed mitigation measures and the additional measures recommended in the draft EIS.

The U.S. Army Corps of Engineers, U.S. Coast Guard, U.S. Department of Energy, U.S. Environmental Protection Agency, and U.S. Department of Transportation participated as cooperating agencies in the preparation of the EIS. Cooperating agencies have jurisdiction by law or special expertise with respect to resources potentially affected by the proposal and participate in the NEPA analysis.

The draft EIS addresses the potential environmental effects of the construction and operation of the following project facilities:

• LNG Terminal: Construction and operation of various liquefaction, LNG distribution, and appurtenant facilities within the boundaries of the site leased by Venture Global on the Mississippi River, including:

○ Six pretreatment facilities (three in each phase);

○ a liquefaction plant with 18 integrated single-mixed refrigerant blocks and support facilities (otherwise referred to as liquefaction blocks or blocks) to be constructed in two phases (nine blocks in each phase);

○ four 200,000-cubic-meter aboveground LNG storage tanks;

○ three LNG loading docks within a common LNG berthing area; and

○ air-cooled electric power generation facilities.

• Pipeline System: Construction and operation of two parallel 42-inch-diameter natural gas pipelines that share one right-of-way corridor for the majority of their respective routes and appurtenant aboveground facilities, including the following:

○ 15.1-mile-long Southwest Lateral Tennessee Gas Pipeline, LLC (TGP) Pipeline;

○ 11.7-mile-long Southwest Lateral Texas Eastern Transmission, LP (TETCO) Pipeline;

○ TGP metering and regulation station; and

○ TETCO metering and regulation station.

The Commission mailed a copy of the Notice of Availability to federal, state, and local government representatives and agencies; elected officials; environmental and public interest groups; Native American tribes; potentially affected landowners and other interested individuals and groups; and newspapers and libraries in the project area. The draft EIS is only available in electronic format. It may be viewed and downloaded from the FERC's website (www.ferc.gov), on the Environmental Documents page (https://www.ferc.gov/industries/gas/enviro/eis.asp). In addition, the draft EIS may be accessed by using the eLibrary link on the FERC's website. Click on the eLibrary link (https://www.ferc.gov/docs-filing/elibrary.asp), click on General Search, and enter the docket number in the “Docket Number” field, excluding the last three digits (i.e. CP17-66 or CP17-67). Be sure you have selected an appropriate date range. For assistance, please contact FERC Online Support at FercOnlineSupport@ferc.gov or toll free at (866) 208-3676, or for TTY, contact (202) 502-8659.

Any person wishing to comment on the draft EIS may do so. Your comments should focus on draft EIS's disclosure and discussion of potential environmental effects, reasonable alternatives, and measures to avoid or lessen environmental impacts. To ensure consideration of your comments on the proposal in the final EIS, it is important that the Commission receive your comments on or before 5:00 p.m. Eastern Time on January 7, 2019.

For your convenience, there are four methods you can use to submit your comments to the Commission. The Commission will provide equal consideration to all comments received, whether filed in written form or provided verbally. The Commission encourages electronic filing of comments and has staff available to assist you at (866) 208-3676 or FercOnlineSupport@ferc.gov. Please carefully follow these instructions so that your comments are properly recorded.

(1) You can file your comments electronically using the eComment feature on the Commission's website (www.ferc.gov) under the link to Documents and Filings. This is an easy method for submitting brief, text-only comments on a project;

(2) You can file your comments electronically by using the eFiling feature on the Commission's website (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket numbers (CP17-66-000 and CP17-67-000) with your submission: Kimberly D. Bose, Secretary, Federal Energy Regulatory Commission, 888 First Street NE, Room 1A, Washington, DC 20426

(4) In lieu of sending written or electronic comments, the Commission invites you to attend the public comment session its staff will conduct in the project area to receive comments on the draft EIS, scheduled as follows:

Date and time | Location
Tuesday, December 11, 2018 (4:00 p.m.-7:00 p.m. CST) | Belle Chasse Library, 8442 Hwy 23, Belle Chasse, Louisiana 70037, (504) 394-3570.

The primary goal of these comment sessions is to have you identify the specific environmental issues and concerns with the draft EIS. Individual verbal comments will be taken on a one-on-one basis with a court reporter. This format is designed to receive the maximum amount of verbal comments, in a convenient way during the timeframe allotted.

The comment session is scheduled from 4:00 p.m. to 7:00 p.m. CST. You may arrive at any time after 4:00 p.m. There will not be a formal presentation by Commission staff when the session opens. If you wish to speak, the Commission staff will hand out numbers in the order of your arrival. Comments will be taken until 7:00 p.m. However, if no additional numbers have been handed out and all individuals who wish to provide comments have had an opportunity to do so, staff may conclude the session at 6:30 p.m. Please see appendix 1 for additional information on the session format and conduct.¹

¹ The appendices referenced in this notice will not appear in the Federal Register. Copies of the appendices were sent to all those receiving this notice in the mail and are available at www.ferc.gov using the link called “eLibrary” or from the Commission's Public Reference Room, 888 First Street NE, Washington, DC 20426, or call (202) 502-8371. For instructions on connecting to eLibrary, refer to page 2 of this notice.

Your verbal comments will be recorded by the court reporter (with FERC staff or representative present) and become part of the public record for this proceeding. Transcripts will be publicly available on FERC's eLibrary system (see below for instructions on using eLibrary). If a significant number of people are interested in providing verbal comments in the one-on-one settings, a time limit of 5 minutes may be implemented for each commentor.

It is important to note that verbal comments hold the same weight as written or electronically submitted comments. Although there will not be a formal presentation, Commission staff will be available throughout the comment session to answer your questions about the environmental review process.

Any person seeking to become a party to the proceeding must file a motion to intervene pursuant to Rule 214 of the Commission's Rules of Practice and Procedures (18 CFR part 385.214). Motions to intervene are more fully described at http://www.ferc.gov/resources/guides/how-to/intervene.asp. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: November 13, 2018.
Kimberly D. Bose,
Secretary.

[FR Doc. 2018-25308 Filed 11-19-18; 8:45 am]

BILLING CODE 6717-01-P